DEPARTMENT OF TRANSPORTATION

Notice of Funding Opportunity for Department of Transportation's PIDP Under the Further Consolidated Appropriations Act, 2020

AGENCY: Office of the Secretary of Transportation, DOT.

ACTION: Notice of funding opportunity.

SUMMARY: The National Defense Authorization Act for Fiscal Year 2020 (NDAA) and the Further Consolidated Appropriations Act, 2020 (“FY 2020 Appropriations Act” or the Act), authorized and appropriated $225 million for the Port Infrastructure Development Program (PIDP) to make grants to improve facilities within, or outside of and directly related to operations of coastal seaports, inland river ports, and Great Lakes ports. This notice announces the availability of funding for grants under this program and establishes selection criteria and application requirements. The Act directed that at least $200 million of the appropriated funds shall be for grants to coastal seaports or Great Lakes ports. Funds for the PIDP are to be awarded as discretionary grants on a competitive basis for projects that will improve the safety, efficiency, or reliability of the movement of goods into, out of, around, or within a port. All PIDP grant recipients must meet all applicable Federal requirements, including the Buy American Act. The purpose of this notice is to solicit grant applications for the PIDP.

DATES: Applications must be submitted by 8:00 p.m. E.D.T. on May 18, 2020.

ADDRESSES: Applications must be submitted through Grants.gov.

FOR FURTHER INFORMATION CONTACT: For further information concerning this notice, please contact the PIDP staff via email at Ports@dot.gov, or call Bob Bouchard, Director, Office of Port Infrastructure Development, at 202-366-5076. A TDD is available for individuals who are deaf or hard of hearing at 202-366-3993. In addition, the Department of Transportation (DOT) may post answers to questions and requests for clarifications as well as information about webinars for further information at www.maritime.dot.gov/PIDPgrants.

SUPPLEMENTARY INFORMATION: Each section of this notice contains information and instructions relevant to the application process for the PIDP discretionary grants, and all applicants should read this notice in its entirety to prepare eligible and competitive applications. Selection criteria have been modified since the FY2019 PIDP program.

Table of Contents

A. Program Description

1. Overview

2. Merit Criteria

B. Federal Award Information

1. Amount Available

2. Award Size

3. Restriction on Funding

4. Availability of Funding

C. Eligibility Information

1. Eligible Applicants

2. Cost Sharing or Matching

D. Application and Submission Information

1. Address

2. Content and Form of Application

3. Unique Entity Identifier and System for Award Management (SAM)

4. Submission Dates and Times

5. Consideration of Applications

6. Late Applications

E. Application Review Information

1. Criteria

2. Review and Selection Process

3. Additional Information

F. Federal Award Administration Information

1. Federal Award Notice

2. Administrative and National Policy Requirements

3. Reporting

G. Federal Awarding Agency Contacts

H. Other Information

1. Protection of Confidential Business Information

2. Publication/Sharing of Application Information

A. Program Description

1. Overview

The PIDP was established under 46 U.S.C. 50302, which authorizes the Department of Transportation (DOT) to establish a port and intermodal improvement program for improving the safety, efficiency or reliability of the movement of goods through ports and intermodal connections to ports. To carry out a project under this program, the Department may provide grants for port and intermodal infrastructure-related projects. The Further Consolidated Appropriations Act, 2020 (Pub. L. 116-94) appropriated $225 million to the PIDP to make discretionary grants to improve the safety, efficiency, or reliability of the movement of goods into, out of, around, or within coastal seaports, inland river ports, or Great Lakes ports.

The efficient movement of goods through ports and their intermodal connections depends on rural transportation networks. Consistent with the R.O.U.T.E.S. Initiative, the Department may consider how projects will address the challenges faced by rural areas under the PIDP.

2. Merit Criteria

This section of the notice describes the following three merit criteria that the Department intends to use to select FY 2020 PIDP awards:

(a) Effect on the Movement of Goods

Ports play a critical role in the movement of freight and goods throughout the country. As primary entry and exit points for imports and exports, ports are essential drivers of our economic growth and productivity. The international competitiveness of the United States' domestic industries, such as agriculture and energy, depends on safe and efficient cargo movements through our nation's coastal and inland ports, as well as their intermodal connectors. To prioritize investment in projects that support goods movement, the Department will evaluate the extent to which the project will improve the safety, efficiency, or reliability of the movement of goods through a port or intermodal connection to a port.

(b) Leverage of Federal Funding

The Department is committed to supporting the President's call for more infrastructure investment. That goal will not be achieved through Federal investment alone, but rather requires States, local governments, and the private sector to maximize their own contributions. By emphasizing leveraging of Federal funding, the Department expects to expand the total resources being used to build and restore infrastructure, rather than have Federal dollars merely displace or substitute for State, local, and private funds. Among otherwise comparable applications, the Department will prioritize projects that maximize leverage of Federal funding.

(c) Net Benefits

A strong maritime transportation network is critical to the functioning and growth of the American economy, which depends on port and intermodal transportation networks to export the goods that it produces. When the nation's ports function well, that infrastructure increases the efficiency of moving goods and thereby cuts the costs of doing business, promotes exports, creates employment opportunities, and improves overall well-being. This merit criterion will measure the quantified benefits against the costs of the project. Among otherwise comparable applications, the Department will prioritize projects that maximize net benefits.

Section E.1 of this notice describes how the Department will evaluate these three merit criteria and consider other information when making award decisions, including compliance with domestic preference requirements, whether the project is located in an Opportunity Zone, and the project's alignment with the Department's R.O.U.T.E.S. initiative. Section D.2 describes how applicants should address each criterion in their application. Section C.3.ii describes determinations that the Department is required to affirmatively make for each project to be awarded.

B. Federal Award Information

1. Amount Available

DOT intends to award up to $225 million to projects that improve facilities within or connecting to coastal seaports, inland river ports, and Great Lakes ports. The FY 2020 Appropriations Act directed that at least $200 million of this amount be reserved for grants to coastal seaports or Great Lakes ports. The FY 2020 Appropriations Act allows up to two percent of the funds appropriated be available for necessary costs of grant administration. If the DOT does not receive sufficient qualified applications, it will award less than the amount available.

2. Award Size

The minimum PIDP award size is $1 million. Except as limited by the amount of available funding and the statutory restrictions on funding identified in Section B.3, there is no maximum award size.

3. Restrictions on Funding

The authorizing statute and appropriations provisions impose several additional restrictions on awards under this notice:

• No more than 25 percent of the available funds ($56.25 million) can be awarded to a single State.

• At least $200 million is reserved for coastal seaport projects or Great Lakes port projects as defined in Section H.3.

• $56.25 million is reserved for projects requesting exactly $10 million in PIDP funds.¹

¹ The Department has discretion to award an applicant less than an applicant requested. Therefore, an award to an applicant who requests exactly $10 million will be counted against the reserved $56.25 million even if that award is less than $10 million.

• No more than $22.5 million may be awarded for development phase activities that do not result in construction.

4. Availability of Funds

To ensure the funds are expended in a timely manner, the Department, to the extent possible, seeks to obligate PIDP funds by September 30, 2023. Obligation occurs when a selected applicant and DOT enter into a written grant agreement after the applicant has satisfied applicable administrative requirements, including transportation planning and environmental review requirements. The Department also seeks to expend funds within five years of obligation. As part of the review and selection process described in Section E.2., DOT will consider a project's likelihood to be ready for obligation of funds by September 30, 2023 and liquidation of these obligations within five years of obligation.

C. Eligibility Information

To be selected for a PIDP discretionary grant, an applicant must be an eligible applicant and the project must be an eligible project.

1. Eligible Applicants

An eligible applicant for a PIDP discretionary grants is a port authority, a commission or its subdivision or agent under existing authority, a State or political subdivision of a State or local government, a Tribal government, a public agency or publicly chartered authority established by one or more States, a special purpose district with a transportation function, a multistate or multijurisdictional group of entities, or a lead entity described above jointly with a private entity or group of private entities. Applicants must demonstrate that they have the authority to carry out the project and are encouraged to submit an assertion with citation of authority with their application.

2. Cost Sharing or Matching

This section of the notice describes cost share requirements for a PIDP Grant award. The Federal share of the costs for which an expenditure is made under a PIDP grant may not exceed 80 percent; however, the Secretary may waive these requirements for grant awards less than $10 million. Non-Federal sources include State funds originating from programs funded by State revenue, local funds originating from State or local revenue funded programs, or private funds. The application should demonstrate, such as through a commitment letter or other documentation, the sources of the non-Federal funds. Unless otherwise authorized by statute, State or local cost-share may not be counted as the non-Federal share for both the PIDP Grant award and another Federal grant program.

The Department will not consider previously incurred costs or previously expended or encumbered funds towards the matching requirement for any project. Matching funds are subject to the same Federal requirements described in Section F.2. as awarded funds.

As directed by statute, for the purpose of eligibility, the proceeds of Federal assistance under chapter 6 of Title 23, United States Code or sections 501 through 504 of the Railroad and Revitalization and Regulatory Reform Act of 1976 (Pub. L. 94-210), as amended, shall be considered to be part of the non-Federal share of project costs if the loan is repayable from non-Federal funds, unless otherwise requested by the project sponsor.

In addition to these cost share requirements, cost share will be evaluated according to the “Leverage of Federal Funding” criterion described in Section E. Preference will be given to those projects that require a lower percentage Federal share of costs (see Section E.1.ii for information on how the Department will evaluate leverage). That section explains that the Department seeks applications for projects that maximize the non-Federal share.

3. Other

a. Eligible Projects

Eligible projects for PIDP grants shall be located either within the boundary of a port, or outside the boundary of a port and directly related to port operations or to an intermodal connection to a port. Eligible projects are limited to:

a. Port gate improvements

b. road improvements both within and connecting to the port;

c. rail improvements both within and connecting to the port;

d. berth improvements (including but not limited to docks, wharves, piers, and dredging incidental to the improvement project);

e. fixed landslide improvements in support of cargo operations (such as silos, elevators, conveyors, container terminals, Ro/Ro structures including parking garages for intermodal freight transfer, warehouses including refrigerated facilities, lay down areas, transit sheds, and other such facilities);

f. utilities necessary for safe operations (including but not limited to lighting, stormwater, and other such improvements that are incidental to a larger infrastructure project); or

g. a combination of activities described above.

Projects addressing environmental mitigation measures, freight intelligent transportation systems, and digital infrastructure systems are eligible if those components support one of the eligible project types listed above. This program will not fund construction, reconstruction, reconditioning, or purchase of a vessel, nor any project within a small shipyard (as defined in 46 U.S. Code § 54101).

Development phase activities (including planning, feasibility analysis, revenue forecasting, environmental review, permitting, and preliminary engineering and design work) that support these capital projects are also eligible. However, the Department will prioritize funding for projects that propose to move into the construction phase within the grant's performance period. Accordingly, applications for only development phase activities will be less competitive than capital grants.

b. Determinations

Before selecting a project for award, the Department must make the following determinations under 46 U.S.C. 50302(c)(6)(A). Evidence that a project meets these determinations should be clearly indicated as outlined in Section D.

a. The project improves the safety, efficiency, or reliability of the movement of goods through a port or intermodal connection to the port. Refer to Section D for what to include in your application, and to Section E.1.a.i for how the Department will make this determination.

b. The project is cost effective. The Department will determine a project is cost effective if it estimates that the project's benefit-cost ratio is equal to or greater than one. Refer to Section E.1.a. iii for how the Department will make this determination.

c. The eligible applicant has the authority to carry out the project. Refer to Section E.2.b.i for how the Department will make this determination.

d. The eligible applicant has sufficient funding available to meet the matching requirements. The Department's determination of sufficient and available non-Federal matching funds will be based on the information provided in the project's Grant Funds, Sources and Uses of Project Funds section of the application (see Section D.2.III). Refer to Section E.2.b.ii for how the Department will make this determination.

e. The project will be completed without unreasonable delay. The application must demonstrate that the project will meet the timeline outlined in Section B.4. This eligibility requirement is separate from the Project Readiness Selection Criteria described in Section E.1.b. Refer to section E.2.b.iii for how the Department will make this determination.

f. The project cannot be easily and efficiently completed without Federal funding or financial assistance available to the project sponsor. The Department's determination will be based on the impacts to the project if Federal funding or financial assistance is unavailable for the project. Refer to Section E.2.b.iv for how the Department will make this determination.

c. Project Components

An application may describe a project that contains more than one component and may describe components that may be carried out by parties other than the applicant. The Department may award funds for a component, instead of the larger project, if that component (1) independently meets minimum award amounts described in Section B and all eligibility requirements described in Section C; (2) independently aligns well with the merit criteria specified in Section E; and (3) meets National Environmental Policy Act (NEPA) requirements with respect to independent utility. Independent utility means that the component will represent a transportation improvement that is usable, even if no other improvement is made in the area, and will be ready for intended use upon completion of that component's construction. All project components that are presented together in a single application must demonstrate a relationship or connection among them.

Applicants should be aware that, depending upon the relationship between project components and applicable Federal law, Federal funding of some project components may make other project components that have not received Federal funding subject to Federal requirements as described in Section F.2.

The Department strongly encourages applicants to identify in their applications the project components that have independent utility and separately detail costs and requested PIDP funding for those components. If the application identifies one or more independent project components, the application should clearly identify how each independent component addresses the merit criteria and produces benefits on its own, in addition to describing how the full proposal of which the independent component is a part addresses the criteria described in Section E.

Applicants that request exactly $10 million in order to be eligible for the relevant reserved funds may include project alternatives that could be awarded less than or greater than exactly $10 million. These applicants are requested to: (1) Expressly state the request amount alternative to $10 million, (2) describe the scope that would accompany that alternative request, (3) clearly indicate the budget and source of funds for the alternative request, and (4) provide sufficient information for the Department to assess the selection criteria for the alternative request.

d. Application Limit

Each lead applicant may submit no more than one application.

e. Definitions

Coastal port: A port on navigable waters of the United States or territories that are subject to the Corps of Engineers regulatory jurisdiction for oceanic and coastal waters under 33 CFR 329.12 or that is otherwise capable of receiving oceangoing vessels with a draft of at least 20 feet (other than a Great Lakes port).

Development Phase Activities: Planning, feasibility analysis, revenue forecasting, environmental review, permitting, and preliminary engineering and design work.

Great Lakes port: A port on the Great Lakes and their connecting and tributary waters as defined under 33 CFR 83.03(o)).

Rural area: An area located outside a 2010 Census-designated urbanized area.

D. Application and Submission Information

1. Address

Applications must be submitted to Grants.gov. Instructions for submitting applications can be found at www.maritime.dot.gov/PIDPgrants along with specific instructions for the forms and attachments required for submission.

2. Content and Form of Application Submission

The application must include the Standard Form 424 (Application for Federal Assistance), cover page, and the Project Narrative. More detailed information about the Project Narrative follows.

The Department recommends that the project narrative be prepared with standard formatting preferences (a single-spaced document, using a standard 12-point font such as Times New Roman, with 1-inch margins, and the narrative text in one column only). The project narrative may not exceed 30 pages in length, excluding cover pages and table of contents. The only substantive portions that may exceed the 30-page limit are documents supporting assertions or conclusions made in the 30-page project narrative. Except for the benefit cost analysis, the Department does not consider support documentation or websites an essential part of the application and may not review supplemental materials as part of the application. If possible, website links to supporting documentation should be provided rather than copies of these supporting materials. Supporting documentation should be expressly dated. If supporting documents are submitted, applicants should clearly identify within the project narrative the relevant portion of the project narrative that each supporting document supports.

The Department recommends that the project narrative follow the basic outline below to address the program requirements and assist evaluators in locating relevant information.

I. Project Description | See D.2.I.
II. Project Location | See D.2.II.
III. Grant Funds, Sources and Uses of all Project Funding | See D.2.III.
IV. Selection Criteria | See D.2.VI.
a. Safety, Efficiency, or Reliability Improvements
b. Leveraging Non-Federal Funds
c. Net Benefits/Economic Vitality
V. Project Readiness | See D.2.V.
a. Technical Capacity
b. Environmental Approvals
c. Risk Mitigation
VI. Domestic Preference | See D.2.VI.

The project narrative should include the information necessary for the Department to determine that the project satisfies project requirements described in Sections B and C and to assess the criteria specified in Section E.1. In addition to a detailed statement of work, detailed project schedule, and detailed project budget, the project narrative should include a table of contents, maps and graphics, as appropriate, to make the information easier to review. To the extent practicable, applicants should provide supporting data and documentation in a form that is directly verifiable by the Department. The Department may ask any applicant to supplement data in its application, but expects applications to be complete upon submission. The Department may seek clarifying or additional information from applicants according to circumstances described in Section E.2. The Department recommends applications include the following content:

I. Project Description

The first section of the application should provide a concise description of the project, the challenges that it is intended to address, and how it will address those challenges. The project description should provide both a high-level overview of the overall project and a clear itemization of its major components. This section may discuss the project's history, including a description of any previously completed components. The applicant may use this section to place the project into a broader context of other transportation infrastructure investments being pursued by the project sponsor. This section should focus on eligibility and technical aspects of the project, but should not directly address the merit criteria.

II. Project Location

This section of the application should describe the project location, including a detailed geographical description of the proposed project, a map of the project's location and connections to existing transportation infrastructure, and geospatial data describing the project location. This section should also clearly identify whether the project is:

(a) located in a qualified opportunity zone ² designated pursuant to 26 U.S.C. 1400Z-1,

² See www.cdfifund.gov/Pages/Opportunity-Zones.aspx for more information on opportunity zones.

(b) located in a rural area (as defined in Section C.3.e),

(c) a Great Lakes port project (as defined in Section C.3.e),

(d) a Coastal Port project (as defined in Section C.3.e),

III. Grant Funds, Sources, and Uses of Project Funds

This section of the application should describe the project's budget and leverage of non-Federal funds. The budget should not include any previously incurred expenses. At a minimum, this section should include:

(a) Project costs;

(b) For all funds to be used for eligible project costs, the source and amount of those funds;

(c) Documentation of funding commitments for non-Federal funds to be used for eligible project costs (documentation may be referenced and submitted as an appendix);

(d) For Federal funds to be used for eligible project costs, the amount, nature, and source of any required non-Federal match for those funds. Applicants should also refer to the Leverage of Federal Funding merit criterion in Section E.1.a.ii.

(e) A budget showing how each source of funds will be spent. The budget should show how each funding source will share in each major construction activity, and present that data in dollars and percentages. Funding sources should be grouped into three categories: non-Federal; PIDP; and other Federal. If the project contains individual components, the budget should separate the costs of each project component. If the project will be completed in phases, the budget should separate the costs of each phase. The budget detail should sufficiently demonstrate that the project satisfies the statutory cost-sharing requirements described in Section C.2.

In addition to the information enumerated above, this section should provide complete information on how all project funds may be used. For example, if a particular source of funds is available only after a condition is satisfied, the application should identify that condition and describe the applicant's control over whether it is satisfied. Similarly, if a particular source of funds is available for expenditure only during a fixed time period, the application should describe that restriction. Complete information about project funds will ensure that the Department's expectations for award execution align with any funding restrictions unrelated to the Department, even if an award differs from the applicant's request. If a funding source is uncertain, the applicant should state that it is uncertain and describe the source of the uncertainty. Failure to document funding sources, as described in paragraph c), or failure to address uncertainty may prevent the Department from making the determination at section C.3.ii.d necessary to select the project for an award.

Applicants that request exactly $10 million with an alternative request should expressly state the request amount alternative to $10 million, and clearly indicate the budget and source of funds for the alternative request.

IV. Merit Criteria

This section should be structured to clearly address each of the following merit criteria in accordance with the Application Review guidance in Section E. Applicants that request exactly $10 million with an alternative request should describe the scope that would accompany that alternative request, and provide sufficient information for the Department to assess the selection criteria for the alternative request.

(a) Effect on the Movement of Goods

The application should contain information to assess the project's impact on safety, efficiency, or reliability of the movement of goods through a port or intermodal connection to a port. The application may, as part of this discussion, identify features the applicant will incorporate into the project and highlight specific benefits of the project (such as indicators of improved efficiency and reliability like reduced vessel and truck turn times; enhancements to or increases in system capacity; improved connectivity; decreases in the number, rate, and consequences of transportation-related accidents, serious injuries, and fatalities).

(b) Leverage of Federal Funding

While the Leveraging Criterion will be assessed according to the methodology described in Section E.1.a.ii, this section of the application may be used to include additional information that may strengthen the Department's understanding of the project sponsor's effort to improve non-Federal leverage.

(c) Net Benefits

This section describes the recommended approach for the completion and submission of a benefit cost analysis (BCA) as an appendix to the Project Narrative. The benefit-cost analysis itself should be provided as an appendix to the project narrative, but the results of the analysis should also be summarized in the Project Narrative directly.

The appendix should provide present value estimates of a project's benefits and costs relative to a no-build baseline. To calculate present values, applicants should apply a real discount rate (i.e., the discount rate net of the inflation rate) of 7 percent per year to the project's streams of benefits and costs. The purpose of the BCA is to enable the Department to evaluate the project's cost-effectiveness by estimating a benefit-cost ratio and calculating the magnitude of net benefits for the project. The primary economic benefits from projects eligible for PIDP grants are likely to include savings in travel time costs, vehicle and port operating costs, and safety costs for both existing users of the improved facility and new users who may be attracted to it because of the project. Savings in infrastructure maintenance costs may also be quantified. Applicants may describe other categories of benefits in the BCA that are more difficult to quantify and value in economic terms, such as improving the reliability of travel times, while also providing numerical estimates of the magnitude and timing of each of these additional impacts wherever possible. Any benefits claimed for the project, both quantified and unquantified, should be clearly tied to the expected outcomes of the project.

The BCA should include the full costs of developing, constructing, operating, and maintaining the proposed project, as well as the expected timing or schedule for costs in each of these categories. The BCA may also consider the present discounted value of any remaining service life of the asset at the end of the analysis period. The costs and benefits that are compared in the BCA should also cover the same project scope, including the costs of other related projects on which the benefits of the PIDP project depend.

The BCA should carefully document the assumptions and methodology used to produce the analysis, including a description of the baseline, the sources of data used to project the outcomes of the project, and the values of key input parameters. Applicants should provide all relevant files used for their BCA, including any spreadsheet files (in their original format such as Excel) and technical memos describing the analysis (whether created in-house or by a contractor). The spreadsheets and technical memos should present the calculations in sufficient detail and transparency to allow the analysis to be reproduced by DOT evaluators. Detailed guidance for estimating some types of quantitative benefits and costs, together with recommended economic values for converting them to dollar terms and discounting to their present values, are available in the Department's guidance for conducting BCAs for projects seeking funding under the PIDP (www.maritime.dot.gov/PIDPgrants).

V. Project Readiness

During application evaluation, the Department may consider project readiness to assess the likelihood of a successful project. In that analysis, the Department will consider two evaluation ratings which include Technical Capacity and Environmental Risk. Technical Capacity will be reviewed for all eligible applications and will assess the recipients experience working with Federal agencies, previous experience with Port Infrastructure Development Grant awards, BUILD or INFRA awards, and the technical experience and resources dedicated to the project. Environmental Risk assessment analyzes the project's environmental approvals and likelihood of the necessary approval affecting project obligation. Risks do not disqualify projects from award, but competitive applications clearly and directly describe achievable risk mitigation strategies. A project with mitigated risks or with a risk mitigation plan is more competitive than a comparable project with unaddressed risks. To minimize redundant information in the application, the Department encourages applicants to cross-reference from this section of their application to relevant substantive information in other sections of the application.

(a) Technical Capacity

The applicant should provide information demonstrating technical capacity to implement the project based on experience and understanding of Federal requirements. This section may include a description of the applicant's history of delivering similar projects or experience completing a Federally supported project. The application should also demonstrate a project's feasibility or constructability and schedule, and how the design will comply with applicable Federal requirements.

(b) Environmental Risk

(1) Project Schedule

The applicant should include a detailed project schedule that identifies all major project milestones. Examples of such milestones include State and local planning approvals; start and completion of NEPA and other Federal environmental reviews and approvals including permitting; design completion; right of way acquisition; approval of plans, specifications and estimates; procurement; State and local approvals; project partnership and implementation agreements, including agreements with railroads; and construction. The project schedule should be sufficiently detailed to demonstrate that the project can begin construction quickly upon obligation of PIDP funds, and that the grant funds will be spent expeditiously once construction starts.

i. Information about the NEPA status of the project. The applicant should indicate the anticipated NEPA level of review for the project and describe any environmental analysis in progress or completed. This includes Categorical Exclusion, Environmental Assessment/Finding of No Significant Impact, or Environmental Impact Statement/Record of Decision. The applicant should review Maritime Administration Manual of Orders MAO 600-1 prior to submission. The application should detail the type of NEPA review underway, where the project is in the process, and indicate the anticipated date of completion of all milestones and of the final NEPA determination. If the last agency action with respect to NEPA documents occurred more than three years before the application date, the applicant should describe why the project has been delayed and include a proposed approach for verifying and, if necessary, updating this material in accordance with applicable NEPA requirements. If applicable, applicants should include a description of discussions with the appropriate Maritime Administration NEPA Coordinator in the Maritime Administration Office of Environment regarding the project's compliance with NEPA and other applicable Federal environmental reviews and approvals.

ii. Environmental Permits and Reviews. The application should demonstrate receipt (or reasonably anticipated receipt) of all environmental permits and approvals necessary, including Section 106 of the National Historical Preservation Act, 54 U.S.C. 306108, and Section 7 of the Endangered Species Act, 16 U.S.C. 1531, for the project to proceed to construction on the timeline specified in the project schedule and necessary to meet the statutory obligation deadline, including satisfaction of all Federal, State, and local requirements and completion of the NEPA process.

iii. State and Local Approvals. The applicant should demonstrate receipt of State and local approvals on which the project depends, such as State and local environmental and planning. Additional support from relevant State and local officials is not required; however, an applicant should demonstrate that the project has broad public support.

iv. Information on reviews, approvals, and permits by other agencies. An application should indicate whether the proposed project requires reviews or approval actions by other agencies,³ indicate the status of such actions, and provide detailed information about the status of those reviews or approvals and should demonstrate compliance with any other applicable Federal, State, or local requirements, and when such approvals are expected. Applicants should provide a website link or other reference to copies of any reviews, approvals, and permits prepared.

³ Projects that may impact protected resources such as wetlands, species habitat, cultural or historic resources require review and approval by Federal and State agencies with jurisdiction over those resources.

v. A description of whether the project is dependent on, or affected by, U.S. Army Corps of Engineers investment and the U.S. Army Corps of Engineers planned activities as it relates to the project.

vi. Environmental studies or other documents, preferably through a website link, that describe in detail known project impacts, and possible mitigation for those impacts. This could include State NEPA analysis information as applicable.

(2) Assessment of Project Readiness Risks and Mitigation Strategies

The applicant should identify project risks, such as approval or permit delays, procurement delays, environmental uncertainties, increases in real estate acquisition costs, or lack of legislative approval, that affect the likelihood of successful project start and completion. The applicant should assess the greatest risks to the project and identify how the project parties will mitigate those risks.

VI. Domestic Preference

This section should include a description of whether materials and manufactured products to be used in the project are produced or manufactured domestically. This section should also include an assessment of what, if any, materials or manufactured products would require an exception or waiver of the Buy American provisions described in section F.2 of this notice and the applicant's current efforts and planned future efforts to maximize domestic content. The content of this section of the application is particularly important for projects that propose the acquisition of heavy equipment (such as cranes) or bollard and fendering systems, which are often procured from foreign manufacturers. As described in Section E.1.c, failure to address Buy American compliance can affect whether an application is considered competitive for award and may prevent an award.

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. The Department may not make a PIDP Grant award to an applicant until the applicant has complied with all applicable unique entity identifier and SAM requirements and, if an applicant has not fully complied with the requirements by the time Department is ready to make a PIDP grant award, the Department may determine that the applicant is not qualified to receive a PIDP grant award and use that determination as a basis for making a PIDP grant award to another applicant.

4. Submission Dates and Times

i. Deadline

Applications must be submitted by 8:00 p.m. EDT on May 18, 2020. The funding opportunity on Grants.gov will open by February 18, 2020.

To submit an application through Grants.gov, applicants must:

(1) Obtain a Data Universal Numbering System (DUNS) number;

(2) Register with the System for Award Management (SAM) at www.SAM.gov;

(3) Create a Grants.gov username and password; and

(4) Complete Authorized Organization Representative (AOR) registration in Grants.gov. The E-Business Point of Contact (POC) at the applicant's organization must respond to the registration email from Grants.gov and login at Grants.gov to authorize the applicant as the AOR. Please note that there can be more than one AOR for an organization.

Please note that the Grants.gov registration process usually takes 2-4 weeks to complete and that the Department will not consider late applications that are the result of failure to register or comply with Grants.gov applicant requirements in a timely manner. For information and instruction on each of these processes, please see instructions at http://www.grants.gov/web/grants/applicants/applicantfaqs.html. If applicants experience difficulties at any point during the registration or application process, please call the Grants.gov Customer Service Support Hotline at 1(800) 518-4726, Monday-Friday from 7:00 a.m. to 9:00 p.m. EST.

5. Consideration of Applications

Only applicants who comply with all submission deadlines described in this notice and electronically submit valid applications through Grants.gov will be eligible for award. Applicants are strongly encouraged to make submissions in advance of the deadline.

6. Late Applications

Applicants experiencing technical issues with Grants.gov that are beyond the applicant's control must contact Ports@dot.gov prior to the application deadline with the user name of the registrant and details of the technical issue experienced. The applicant must provide:

(1) Details of the technical issue(s) experienced;

(2) Screen capture(s) of the technical issues(s) experienced along with corresponding Grants.gov “Grant tracking number”;

(3) The “Legal Business Name” for the applicant that was provided in the SF-424;

(4) The AOR name submitted in the SF-424;

(5) The DUNS number associated with the application; and

(6) The Grants.gov Help Desk Tracking Number.

To ensure a fair competition for limited discretionary funds, the following conditions are not valid reasons to permit late submissions: (1) Failure to complete the various registration processes before the deadline; (2) failure to follow Grants.gov instructions on how to register and apply as posted on its website; (3) failure to follow all instructions in this notice of funding opportunity; and (4) technical issues experienced with the applicant's computer or information technology environment. After the Department reviews all information submitted and contacts the Grants.gov Help Desk to validate reported technical issues, DOT staff will contact late applicants to approve or deny a request to submit a late application through Grants.gov. If the reported technical issues cannot be validated, late applications will be rejected as untimely.

E. Application Review Information

1. Criteria

a. Merit Criteria

This section specifies the merit criteria that the Department will use to evaluate and award applications for PIDP grants. Per the Act, the Secretary shall give substantial weight to the utilization of non-Federal contributions and the net benefits as determined by the cost-benefit analysis of the project. The Department encourages applicants to address each of the following criterion. Applicants that request exactly $10 million with an alternative request should provide sufficient information for the Department to assess the selection criteria for the alternative request.

i. Effect on the Movement of Goods

The Department will evaluate the extent to which the project will improve the safety, efficiency, or reliability of the movement of goods through a port or intermodal connection to a port. To address this criterion, the application must include a discussion about how the project improves the safety, efficiency or reliability of the movement of goods. For projects that positively improve the movement of goods the project will satisfy the determination listed under Section C.3.ii.a

ii. Leverage of Federal Funding

To maximize the impact of PIDP awards, the Department seeks to leverage PIDP funding with non-Federal contributions. To evaluate this criterion, the Department will assign a rating to each project based on the calculated non-Federal share of the project's future eligible project costs. The Department will sort project applications' non-Federal leverage percentage from high to low, and the assigned ratings will be based on quintile: Projects in the 80th percentile and above receive the highest rating; the 60th-79th percentile receive the second highest rating; 40th-59th, the third highest; 20th-39th, the fourth highest; and 0-19th, the lowest rating. This evaluation criterion is separate from the statutory cost share requirements for PIDP grants, which are described in Section C.2. Those statutory requirements establish the minimum permissible non-Federal share; they do not define a competitive PIDP project.

The project's non-Federal leverage percentage will be calculated based on the best available information provided by the applicant. In cases where the ultimate source of the funding is unclear, the funding will be treated as Federal for the purposes of this calculation.

For the purposes of evaluating leverage, proceeds of Federal assistance under chapter 6 of Title 23, United States Code or sections 501 through 504 of the Railroad and Revitalization and Regulatory Reform Act of 1976 (Public Law 94-210), as amended, shall be considered to be part of the non-Federal share of project costs if the loan is repayable from non-Federal funds, unless otherwise requested by the project sponsor.

iii. Net Benefits

The Department will consider the costs and benefits of projects seeking PIDP funding. To the extent possible, the Department will rely on quantitative, data-supported analysis to assess how well a project addresses this criterion, including an assessment of the project's estimated benefit-cost ratio and net benefits based on the applicant-supplied BCA described in Section D.2.IV.c.

Based on the Department's assessment, the Department will group projects into ranges based on their estimated benefit costs ratio (BCR) and net present value (NPV), and assign a level of confidence associated with each project's assigned BCR and NPV ratings. The Department will use these ranges for BCR: Less than 1; 1-1.5; 1.5-3; and greater than 3. The Department will use these ranges for NPV: Less than $0; $0-$50,000,000; $50,000,000-$250,000,000; and greater than $250,000,000. The confidence levels are high, medium, and low. For projects that have a BCR greater than 1, the project will satisfy the determination in Section C.3.ii.b.

b. Project Readiness

The Department will consider significant risks to successful completion of a project, including risks associated with technical capacity, environmental review, permitting, and the applicant's overall capacity to manage project delivery. Risks do not disqualify projects from award, but competitive applications clearly and directly describe achievable risk mitigation strategies. A project with mitigated risks is more competitive than a comparable project with unaddressed risks.

c. Domestic Preference

The Department will consider whether an exception/waiver of the Buy American provisions will be necessary to complete the project. Among otherwise comparable applications, projects that depend on materials or manufactured products that do not comply with domestic preference requirements will be less competitive than projects that comply with those requirements. Among otherwise comparable applications that require exceptions or waivers, an application that presents an effective plan to maximize domestic content will be more competitive than one that does not. The Department will not award projects that likely need a waiver but present no plan to maximize domestic content.

d. Additional Considerations

i. Opportunity Zones

The Department will consider whether a project is located within a qualified opportunity zone ⁴ designated pursuant to 26 U.S.C. 1400Z-1. A project located in a qualified opportunity zone is more competitive than a similar project that is not located in a qualified opportunity zone.

⁴ See www.cdfifund.gov/Pages/Opportunity-Zones.aspx for more information on opportunity zones.

ii. R.O.U.T.E.S

Consistent with the R.O.U.T.E.S. Initiative, the Department may consider how projects will address the challenges faced by rural areas under the Port Infrastructure Development Grant program. A project that effectively addresses those challenges is more competitive than a similar project that does not.

iii. Projects Awarded Less Than $10,000,000

For Department awards that are under $10 million, the Department will give priority consideration for ports that handled less than 10,000,000 short tons in 2017, as identified by the Army Corps of Engineers.

2. Review and Selection Process

a. Review Process

The PIDP evaluation consists of Intake, a Technical Review Phase, and a Senior Review phase, each of which are described below. During the Technical Review Phase, Department staff will analyze applications and provide ratings, consistent with the descriptions in this NOFO. If the project has not substantively changed from prior submissions to BUILD or other Department programs, staff may rely on previous analysis.

Based on this analysis, the Senior Review Team assembles a list of Projects for Consideration for selection by the Secretary based on the criteria described in Section E. The Secretary makes final selections based on the criteria described in Section E.

b. Determinations

The Department must make the following determinations under 46 U.S.C. 50302(c)(6)(A).

i. Authority To Carry Out the Project

If the applicant demonstrates that they have the authority to carry out the project by providing citations of authority, or other supporting documentation with their application, the project will satisfy the determination outlined in Section C.3.ii.c.

ii. Unreasonable Delay

If the application narrative and project schedule demonstrate that the project is reasonably expected to begin construction no later than 18 months after the date of obligation of funds for the project, and will be fully completed within five years of obligation, the project satisfies the determination outlined in Section C.3.ii.e.

iii. Sufficient Matching Funds

In assessing the availability of the proposed non-Federal financial commitments, the Department will consider the degree to which financing sources are dedicated to the proposed purposes and are highly likely to be available within the proposed project schedule. If the application narrative and project budget demonstrate that the applicant has sufficient funding available to meet the matching requirements, the project will satisfy the determination outlined in Section C.3.ii.d.

iv. Need for Financial Assistance

The Department will evaluate how well the project demonstrates that it cannot be easily and efficiently completed without Federal funding or financial assistance available to the project sponsor. If applications sufficiently describe the impacts on the project of federal funding or financial assistance being unavailable for the project, and show the project cannot be easily or efficiently completed without such assistance the project will satisfy the determination outlined in Section C.3.ii.f.

c. Additional Information

Throughout the review and selection process, the Department may seek additional information from an applicant related to project eligibility, whether the project can be completed with a reduced award, or data needed to complete project analysis.

3. Additional Information

Development phase grant applications will be evaluated against the same criteria as capital grant applications, and the Department will prioritize funding for projects that propose to move into the construction phase within the period of obligation. Accordingly, applications for development phase activities will be less competitive than capital grants.

Prior to grant obligation, each selected applicant will be subject to a risk assessment as required by 2 CFR 200.205. The Department must review and consider any information about the applicant that is in the designated integrity and performance system accessible through SAM (currently the Federal Awardee Performance and Integrity Information System (FAPIIS)). An applicant may review information in FAPIIS and comment on any information about itself. The Department will consider comments by the applicant, in addition to the other information in FAPIIS, in making a judgment about the applicant's integrity, business ethics, and record of performance under Federal awards when completing the review of risk posed by applicants.

F. Federal Award Administration Information

1. Federal Award Notice

Following the evaluation outlined in Section E, the Department will announce awarded projects by posting a list of selected projects at www.maritime.dot.gov/PIDPgrants. Notice of selection is not authorization to begin performance. Following that announcement, the Department will contact the point of contact listed in the SF 424 to initiate negotiation of the grant agreement for authorization.

PIDP grant funds will reimburse recipients after expenses are incurred. PIDP Transportation Grant recipients must adhere to applicable requirements and follow established procedures to receive reimbursement. Recipient of an award will not receive a lump-sum cash disbursement at the time of award announcement or obligation of funds. Unless authorized in writing by the Department, an expense incurred before a grant agreement is executed will not be reimbursed.

2. Administrative and National Policy Requirements

PIDP grant funds will reimburse recipients after expenses are incurred. PIDP grant recipients must adhere to applicable requirements and follow established procedures to receive reimbursement. The recipient of an award will not receive a lump-sum cash disbursement at the time of award announcement or obligation of funds.

The Department will determine the period of performance for each award based on the specific project that was evaluated and selected. DOT will administer each PIDP Grant pursuant to a grant agreement with the grant recipient. Amounts awarded as a grant under this notice that are not expended by the grant recipient shall remain available to DOT for use for grants under this program.

All awards will be administered pursuant to the Uniform Administrative Requirements, Cost Principles and Audit Requirements for Federal Awards found in 2 CFR part 200, as adopted by the Department of Transportation at 2 CFR part 1201. Additionally, applicable Federal laws, Executive Orders, and any rules, regulations, and requirements of the Maritime Administration will apply to the projects that receive PIDP Grants awards.

As expressed in Executive Orders 13788 of April 18, 2017 and 13858 of January 31, 2019, it is the policy of the executive branch to maximize, consistent with law, the use of goods, products, and materials produced in the United States in the terms and conditions of Federal financial assistance awards. Consistent with the requirements of Section 410 of the Transportation, Housing and Urban Development, and Related Agencies Appropriations Act, 2020 (Pub. L. 116-94, div. H, December 20, 2019), the Buy American requirements of 41 U.S.C. 8301-8305 apply to funds made available under this notice and other expenditures within the scope of the award, and all grant recipients must apply, comply with, and implement all provisions of the Buy American Act and related provisions in the grant agreement when implementing PIDP Grant projects. If selected for an award, grant recipients will be required to obtain approval from the Department before applying any Buy American Act exception. To obtain that approval, grant recipients must be prepared to demonstrate how they will maximize the use of domestic goods, products, and materials in constructing their project.

In connection with any program or activity conducted with or benefiting from funds awarded under this notice, recipients of funds must comply with all applicable requirements of Federal law, including, without limitation, the Constitution of the United States; statutory, regulatory, and public policy requirements, including without limitation, those protecting free speech, religious liberty, public welfare, the environment, and prohibiting discrimination; the conditions of performance, nondiscrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If the Department determines that a recipient has failed to comply with applicable Federal requirements, the Department may terminate the award of funds and disallow previously incurred costs, requiring the recipient to reimburse any expended award funds.

Additionally, Federal wage rate requirements included in subchapter IV of chapter 31 of title 40, U.S.C., apply to all projects receiving funds under this program, and apply to all parts of the project, whether funded with PIDP grant funds, other Federal funds, or non-Federal funds.

PIDP projects involving vehicle acquisition must involve only vehicles that comply with applicable Federal Motor Vehicle Safety Standards and Federal Motor Carriers Safety Regulations, or vehicles that are exempt from Federal Motor Vehicle Safety Standards or Federal Motor Carrier Safety Regulations in a manner that allows for the legal acquisition and deployment of the vehicle or vehicles.

3. Reporting

This section of the notice provides general information about the reporting requirements that accompany PIDP Grant funding. Potential applicants should review these requirements to ensure that they can satisfy them if they receive an award. A recipient's failure to timely submit required reports may result in termination of an award and a legal requirement for the recipient to return funding to the Department.

a. Progress Reporting on Grant Activities

Each applicant selected for PIDP Grants funding must submit quarterly progress reports and Federal Financial Reports (SF-425) to monitor project progress and ensure accountability and financial transparency in the PIDP.

b. Outcome Performance Reporting

Each applicant selected for PIDP Grant funding must collect information and report on the project's observed performance with respect to the relevant long-term outcomes that are expected to be achieved through construction of the project. Performance indicators will include formal goals or targets for a period determined by the Department. They will be used to evaluate and compare projects and monitor the results that grant funds achieve to the intended long-term outcomes of the PIDP. To the extent possible, performance indicators used in the reporting will relate to at least one of the merit criteria defined in Section E and to a benefit estimated in the BCA. The Department expects that the level of performance will be consistent with estimates used in the applicant's BCA. Performance reporting continues for three years after project construction is completed, and the Department does not provide PIDP grant funding specifically for performance reporting. For each project selected for award, the Department, with input from the grant recipients, will identify the measures to be collected. Those measures and the reporting requirements will be formalized in the agreement obligating award funds for the project.

c. Port Performance Reporting

The Department is required to report annually on port performance (see Sec. 6314 of the FAST Act). To help the Department more accurately assess port performance, PIDP grant recipients will be required to enter a data sharing agreement to submit to the Department information where consistent data related to the project, particularly on cargo throughput, is not publicly available and difficult to collect from ports and port terminals. Data, which must originate from the port, that will be required as a condition of award may include some or all the following:

• Total capacity of inbound and outbound cargo

• Total volume of inbound and outbound cargo

• Average number of lifts per hour of containers by crane

• Average vessel turn time by vessel type

• Average cargo or container dwell time

• Port storage capacity and utilization

• Modal throughput statistics, including rail and truck turn times

• Types of cargo moved

• Presences and location of intermodal connectors

• Physical size of the terminals within the port boundaries

• Maximum authorized channel depth and maximum actual/current channel depth

• Schedule vessel arrivals (for use in determining vessel on-time performance)

• Berth utilization

Details and definitions on the data elements described above will be provided in the data sharing agreement with the Department.

d. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice please contact the PIDP staff via email at Ports@dot.gov, or call or call Bob Bouchard, Director, Office of Port Infrastructure Development, at 202-366-5076. A TDD is available for individuals who are deaf or hard of hearing at 202-366-3993. In addition, the Department will post answers to questions and requests for clarifications at www.maritime.dot.gov/PIDPgrants. To ensure applicants receive accurate information about eligibility or the program, the applicant is encouraged to contact DOT directly, rather than through intermediaries or third parties, with questions. DOT may also conduct briefings on the PIDP Grants selection and award process upon request.

H. Other information

1. Protection of Confidential Business Information

All information submitted as part of or in support of any application shall use publicly available data or data that can be made public and methodologies that are accepted by industry practice and standards, to the extent possible. If the applicant submits information that the applicant considers to be a trade secret or confidential commercial or financial information, the applicant must provide that information in a separate document, which the applicant may cross-reference from the application narrative or other portions of the application. For the separate document containing confidential information, the applicant must do the following: (1) State on the cover of that document that it “Contains Confidential Business Information (CBI)”; (2) mark each page that contains confidential information with “CBI”; (3) highlight or otherwise denote the confidential content on each page; and (4) at the end of the document, explain how disclosure of the confidential information would cause substantial competitive harm. DOT will protect confidential information complying with these requirements to the extent required under applicable law. If DOT receives a Freedom of Information Act (FOIA) request for the information that the applicant has marked in accordance with this section, DOT will follow the procedures described in its FOIA regulations at 49 CFR 7.29. Only information that is in the separate document, marked in accordance with this section, and ultimately determined to be confidential under § 7.29 will be exempt from disclosure under FOIA.

2. Publication/Sharing of Application Information

Following the completion of the selection process and announcement of awards, the Department intends to publish a list of all applications received along with the names of the applicant organizations and funding amounts requested. Except for the information properly marked as described in Section H.1., the Department may make application narratives publicly available or share application information within the Department or with other Federal agencies if the Department determines that sharing is relevant to the respective program's objectives.

Issued in Washington, DC, on February 24, 2020.
Elaine L. Chao,
Secretary.

[FR Doc. 2020-04309 Filed 3-2-20; 8:45 am]

BILLING CODE 4910-9X-P